COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete service(s) from the Procurement List that were furnished by nonprofit agencies employing persons who are blind or have other severe disabilities.

DATES: Comments must be received on or before: May 1, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following service(s) are proposed for deletion from the Procurement List:

Service(s)

Service Type: Janitorial/Custodial

Mandatory for: Bureau of Land Management, Salt Lake City Field Office and Warehouse, 2370 S Decker Lake Blvd., Salt Lake City, UT

Designated Source of Supply: Community Foundation for the Disabled, Inc., Salt Lake City, UT

Contracting Activity: BUREAU OF LAND MANAGEMENT, BUREAU OF LAND MANAGMENT

Michael R. Jurkowski,
Acting Director, Business Operations.

[FR Doc. 2022-06934 Filed 3-31-22; 8:45 am]

BILLING CODE 6353-01-P